DEPARTMENT OF HEALTH AND HUMAN SERVICES

National Toxicology Program (NTP); Liaison and Scientific Review Office; Meeting of the Scientific Advisory Committee on Alternative Toxicological Methods (SACATM)

AGENCY: National Institute of Environmental Health Sciences (NIEHS), National Institutes of Health (NIH).

ACTION: Meeting announcement and request for comment.

SUMMARY: Pursuant to section 10(a) of the Federal Advisory Committee Act, as amended (5 U.S.C. Appendix 2), notice is hereby given of a meeting of the SACATM on November 30, 2006 in Research Triangle Park, North Carolina. The meeting is scheduled from 8:30 a.m. to adjournment (~5 p.m.) and is open to the public with attendance limited only by the space available. SACATM advises the Interagency Coordinating Committee on the Validation of Alternative Methods (ICCVAM), the NTP Interagency Center for the Evaluation of Alternative Toxicological Methods (NICEATM), and the Director of the NIEHS regarding statutorily mandated duties of ICCVAM and activities of NICEATM. SACATM provides advice on priorities and activates related to the development, validation, scientific review, regulatory acceptance, implementation, and national and international harmonization of new, revised, and alternative toxicological test methods. Additional information about SACATM, including the charter, roster, and records of past meetings can be found at http://ntp.niehs.nih.gov/ see “Advisory Board & Committees” or directly at http://ntp.niehs.nih.gov/go/167.

DATES: The SACATM meeting will be held on November 30, 2006. All individuals who plan to attend are encouraged to register online at the NTP Web site by November 27, 2006, at http://ntp.niehs.nih.gov/go/7441. In order to facilitate planning for this meeting, persons wishing to make an oral presentation are asked to notify Dr. Kristina Thayer via online registration, phone, or e-mail by November 23, 2006, (see ADDRESSES below). Written comments should also be received by November 23, 2006, to enable review by SACATM and NTP/NIEHS staff prior to the meeting.

ADDRESSES: The SACATM meeting will be held at the National Institute of Environmental Health Sciences (NIEHS), 111 Alexander Drive, Rodbell Building, Research Triangle Park, NC 27709. Public comments and other correspondence should be directed to Dr. Kristina Thayer, (NIEHS, P.O. Box 12233, MD B2-01, Research Triangle Park, NC 27709; telephone: 919-541-5021 or e-mail: thayer@niehs.nih.gov). Persons needing special assistance, such as sign language interpretation or other reasonable accommodation in order to attend, should contact 919-541-2475 voice, 919-541-4644 TTY (text telephone), through the Federal TTY Relay System at 800-877-8339, or by e-mail to niehsoeeo@niehs.nih.gov. Requests should be made at least 7 days in advance of the event.

SUPPLEMENTARY INFORMATION:

Preliminary Agenda and Availability of Meeting Materials

A preliminary agenda is provided below. Additional background material will be posted on the NTP Web site by November 1, 2006 at http://ntp.niehs.nih.gov/go/7441 or available upon request (see ADDRESSES above). Following the meeting, summary minutes will be prepared and available at this Web site and upon request.

Preliminary Agenda, Scientific Advisory Committee on Alternative Toxicological Methods, November 30, 2006, National Institute of Environmental Health Sciences (NIEHS), 111 Alexander Drive, Rodbell Building, Research Triangle Park, NC 27709

8:30 a.m.

• Call to Order and Introductions

• ICCVAM-NICEATM Update

• ICCVAM Nominations

○ Public Comment

• Status of NTP High Throughput Screening Assays (HTS)

○ Public Comment

12 p.m.

Lunch Break

1 p.m.

• Follow Up to ICCVAM Report Recommendations

○ Public Comment

• Approach for Developing the ICCVAM 5-Year Plan

○ Public Comment

• European Centre for the Validation of Alternative Methods (ECVAM) Update

• Japanese Center for the Validation of Alternative Methods (JaCVAM) Update

• SACATM General Discussion

~5 p.m.

Adjourn

Request for Comments

Public input at this meeting is invited and time is set aside for the presentation of public comments. Each organization is allowed one time slot per public comment period. At least 7 minutes will be allotted to each speaker, and if time permits, may be extended to 10 minutes. Registration for oral comments will also be available on-site, although time allowed for presentation by on-site registrants may be less than that for pre-registered speakers and will be determined by the number of persons who register at the meeting.

Persons registering to make oral comments are asked, if possible, to send a copy of their statement to Dr. Kristina Thayer (see ADDRESSES above) by November 23, 2006, to enable review by SACATM and NIEHS/NTP staff prior to the meeting. Written statements can supplement and may expand the oral presentation. If registering on-site and reading from written text, please bring 40 copies of the statement for distribution and to supplement the record. Written comments received in response to this notice will be posted on the NTP Web site. Persons submitting written comments should include their name, affiliation, mailing address, phone, fax, e-mail, and sponsoring organization (if any) with the document.

Background Information on SACATM

The SACATM was established January 9, 2002, to fulfill section 3(d) of Public Law 106-545, the ICCVAM Authorization Act of 2000 [42 U.S.C. 285l-3(d)] and is composed of scientists from the public and private sectors (Federal Register: March 13, 2002: Vol. 67, No. 49, page 11358). The SACATM provides advice to the Director of the NIEHS, ICCVAM, and NICEATM regarding statutorily mandated duties of ICCVAM and activities of NICEATM. Additional information about SACATM, including the charter, roster, and records of past meetings can be found at http://ntp.niehs.nih.gov/ see “Advisory Board & Committees.”

Information about NICEATM and ICCVAM activities can be found at the NICEATM/ICCVAM Web site (http://iccvam.niehs.nih.gov) or by contacting the Director of NICEATM, Dr. William Stokes (telephone: 919-541-2384, or e-mail: niceatm@niehs.nih.gov).

Dated: October 17, 2006.
Samuel H. Wilson,
Deputy Director, National Institute of Environmental Health Sciences and National Toxicology Program.

[FR Doc. E6-17889 Filed 10-24-06; 8:45 am]

BILLING CODE 4140-01-P